DEPARTMENT OF HOMELAND SECURITY

U.S. Customs and Border Protection

Agency Information Collection Activities: Application—Alternative Inspection Services (SENTRI Application and FAST Commercial Driver Application)

AGENCY: U.S. Customs and Border Protection, Department of Homeland Security.

ACTION: 30-Day notice and request for comments; Extension of an existing information collection: 1651-0121.

SUMMARY: U.S. Customs and Border Protection (CBP) of the Department of Homeland Security will be submitting the following information collection request to the Office of Management and Budget (OMB) for review and approval in accordance with the Paperwork Reduction Act: Alternative Inspection Services including the SENTRI Application (CBP Form 823S) and the FAST Commercial Driver Application (CBP Form 823F). This is a proposed extension of an information collection that was previously approved. CBP is proposing that this information collection be extended with a change to the burden hours. This document is published to obtain comments from the public and affected agencies. This proposed information collection was previously published in the Federal Register (75 FR 38821) on July 6, 2010, allowing for a 60-day comment period. This notice allows for an additional 30 days for public comments. This process is conducted in accordance with 5 CFR 1320.10.

DATES: Written comments should be received on or before October 25, 2010.

ADDRESSES: Interested persons are invited to submit written comments on this proposed information collection to the Office of Information and Regulatory Affairs, Office of Management and Budget. Comments should be addressed to the OMB Desk Officer for Customs and Border Protection, Department of Homeland Security, and sent via electronic mail to oira_submission@omb.eop.gov or faxed to (202) 395-5806.

SUPPLEMENTARY INFORMATION: U.S. Customs and Border Protection (CBP) encourages the general public and affected Federal agencies to submit written comments and suggestions on proposed and/or continuing information collection requests pursuant to the Paperwork Reduction Act (Pub. L.104-13). Your comments should address one of the following four points:

(1) Evaluate whether the proposed collection of information is necessary for the proper performance of the functions of the agency/component, including whether the information will have practical utility;

(2) Evaluate the accuracy of the agencies/components estimate of the burden of The proposed collection of information, including the validity of the methodology and assumptions used;

(3) Enhance the quality, utility, and clarity of the information to be collected; and

(4) Minimize the burden of the collections of information on those who are to respond, including the use of appropriate automated, electronic, mechanical, or other technological techniques or other forms of information.

Title: Application—Alternative Inspection Services including the SENTRI application and the FAST Commercial Driver Application.

OMB Number: 1651-0121.

Form Numbers: 823S (SENTRI) and 823F (FAST).

Abstract: This collection of information is to implement CBP's Trusted Traveler Programs, including the Secure Electronic Network for Travelers Rapid Inspection (SENTRI), which allows expedited entry at specified southwest land border ports of entry, and the Free and Secure Trade program (FAST), which provides expedited border processing for known, low-risk commercial drivers. The purpose of the Trusted Traveler programs is to provide prescreened travelers expedited entry into the United States. The benefit to the traveler is less time spent in line waiting to be processed by CBP. The Trusted Traveler programs are provided for in 8 CFR 235.7. Applicants may apply for these programs using paper forms available at http://www.cbp.gov/or through the Global On-line Enrollment System (GOES) at https://goes-app.cbp.dhs.gov.

Current Actions: This submission is being made to revise the burden hours as a result of revised burden estimates for Forms 823S, 823F and GOES. There are no changes to the information being collected.

Type of Review: Extension with a change to the burden hours.

Affected Public: Businesses, Individuals.

SENTRI (Form 823S):

Estimated Number of Respondents: 63,415.

Estimated Number of Total Annual Responses: 63,415.

Estimated Time per Response: 40 minutes.

Estimated Total Annual Burden Hours: 42,488.

Estimated Costs: $1,585,375.

FAST (Form 823F):

Estimated Number of Respondents: 28,910.

Estimated Number of Total Annual Responses: 28,910.

Estimated Time per Response: 40 minutes.

Estimated Total Annual Burden Hours: 19,370.

Estimated Costs: $1,445,500.

If additional information is required contact: Tracey Denning, U.S. Customs and Border Protection, Regulations and Rulings, Office of International Trade, 799 9th Street, NW., 5th Floor, Washington, DC 20229-1177, at 202-325-0265.

Dated: September 20, 2010.
Tracey Denning,
Agency Clearance Officer, U.S. Customs and Border Protection.

[FR Doc. 2010-23888 Filed 9-23-10; 8:45 am]

BILLING CODE 9111-14-P